NUCLEAR REGULATORY COMMISSION

10 CFR Part 73

[Docket Nos. PRM-73-16; NRC-2013-0024]

Personnel Access Authorization Requirements for Nuclear Power Plants

AGENCY: Nuclear Regulatory Commission.

ACTION: Petition for rulemaking; withdrawal by petitioner.

SUMMARY: The U.S. Nuclear Regulatory Commission (NRC) is announcing the withdrawal, without prejudice to a future filing, of a petition for rulemaking (PRM), PRM-73-16, filed with the Commission by the Nuclear Energy Institute (NEI or the petitioner) on January 25, 2013. The petitioner requested that the Commission amend its regulations to limit the scope of third-party review of licensee decisions denying or revoking an employee's unescorted access at licensee facilities. The petitioner sought to ensure that such decisions could not be overturned by any third party. By letter dated January 22, 2015, the petitioner withdrew its PRM.

DATES: The petition was withdrawn on January 22, 2015.

ADDRESSES: Please refer to Docket ID NRC-2013-0024 when contacting the NRC about the availability of information for this action. You may obtain publicly-available information related to this action by any of the following methods:

• Federal Rulemaking Web site: Go to http://www.regulations.gov and search for Docket ID NRC-2013-0024. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Jessica Kratchman, Office of Nuclear Reactor Regulation, U.S. Nuclear Regulatory Commission, Washington, DC 20555-0001; telephone: 301-415-5112, email: Jessica.Kratchman@nrc.gov.

SUPPLEMENTARY INFORMATION: On January 25, 2013, the petitioner filed PRM-73-16 with the Commission requesting that it amend its regulations to limit the scope of third-party review of licensee decisions denying or revoking an employee's unescorted access at their facility (ADAMS Accession No. ML13035A186). The NRC published a notice of receipt and request for public comment on PRM-73-16 in the Federal Register of April 22, 2013 (78 FR 23684). The petition received over 300 individual comments from 212 individual commenters and co-signers. By letter dated January 22, 2015, the petitioner withdrew its PRM (ADAMS Accession No. ML15023A338).

Dated at Rockville, Maryland, this 12th day of March, 2015.
For the Nuclear Regulatory Commission.
Annette L. Vietti-Cook,
Secretary of the Commission.

[FR Doc. 2015-06420 Filed 3-19-15; 8:45 am]

BILLING CODE 7590-01-P